DEPARTMENT OF HOMELAND SECURITY

Federal Emergency Management Agency

44 CFR Part 67

[Docket ID FEMA-2008-0020; Internal Agency Docket No. FEMA-B-1038]

Proposed Flood Elevation Determinations

AGENCY: Federal Emergency Management Agency, DHS.

ACTION: Proposed rule; correction.

SUMMARY: On March 25, 2009, FEMA published in the Federal Register a proposed rule that contained an erroneous table. This notice provides corrections to that table, to be used in lieu of the information published at 74 FR 12799. The table provided here represents the flooding sources, location of referenced elevations, effective and modified elevations, and communities affected for Monroe County, Kentucky, and Incorporated Areas. Specifically, it addresses the following flooding sources: Bailey Branch (backwater effects from Cumberland River), Butler Branch (backwater effects from Cumberland River), Cumberland River, McFarland Creek (backwater effects from Cumberland River), Meredith Creek (backwater effects from Cumberland River), Meshack Creek (backwater effects from Cumberland River), Murphy Branch (backwater effects from Cumberland River), and Ward Branch (backwater effects from Cumberland River).

DATES: Comments are to be submitted on or before October 19, 2011.

ADDRESSES: You may submit comments, identified by Docket No. FEMA-B-1038, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 12799 in the March 25, 2009, issue of the Federal Register, FEMA published a table under the authority of 44 CFR 67.4. The table, entitled “Monroe County, Kentucky, and Incorporated Areas” addressed the flooding source Cumberland River. That table contained inaccurate information as to the location of referenced elevation, effective and modified elevation in feet, and/or communities affected for that flooding source. In addition, it did not include the following flooding sources: Bailey Branch (backwater effects from Cumberland River), Butler Branch (backwater effects from Cumberland River), McFarland Creek (backwater effects from Cumberland River), Meredith Creek (backwater effects from Cumberland River), Meshack Creek (backwater effects from Cumberland River), Murphy Branch (backwater effects from Cumberland River), and Ward Branch (backwater effects from Cumberland River). In this notice, FEMA is publishing a table containing the accurate information, to address these prior errors. The information provided below should be used in lieu of that previously published.

Flooding source(s) | Location of referenced elevation** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Monroe County, Kentucky, and Incorporated Areas
Bailey Branch (backwater effects from Cumberland River) | From the Cumberland River confluence to approximately 950 feet upstream of the Cumberland River confluence | None | +526 | Unincorporated Areas of Monroe County.
Butler Branch (backwater effects from Cumberland River) | From the Cumberland River confluence to approximately 0.6 mile upstream of the Cumberland River confluence | None | +534 | Unincorporated Areas of Monroe County.
Cumberland River | Approximately 5,200 feet downstream of the McFarland Creek confluence | None | +518 | Unincorporated Areas of Monroe County.
| At the Glasscock Creek confluence | None | +536
McFarland Creek (backwater effects from Cumberland River) | From the Cumberland River confluence to approximately 0.5 mile upstream of the Cumberland River confluence | None | +519 | Unincorporated Areas of Monroe County.
Meredith Creek (backwater effects from Cumberland River) | From the Cumberland River confluence to approximately 0.7 mile upstream of the Cumberland River confluence | None | +524 | Unincorporated Areas of Monroe County.
Meshack Creek (backwater effects from Cumberland River) | From the Cumberland River confluence to approximately 1,700 feet upstream of the Cumberland River confluence | None | +531 | Unincorporated Areas of Monroe County.
Murphy Branch (backwater effects from Cumberland River) | From the Cumberland River confluence to approximately 0.5 mile upstream of the Cumberland River confluence | None | +522 | Unincorporated Areas of Monroe County.
Ward Branch (backwater effects from Cumberland River) | From the Cumberland River confluence to approximately 1,450 feet upstream of the Cumberland River confluence | None | +528 | Unincorporated Areas of Monroe County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Monroe County
Maps are available for inspection at the Monroe County Courthouse, 200 North Main Street, Tompkinsville, KY 42167.

(Catalog of Federal Domestic Assistance No. 97.022, “Flood Insurance.”)

Dated: April 8, 2011.
Sandra K. Knight,
Deputy Federal Insurance and Mitigation Administrator, Mitigation, Department of Homeland Security, Federal Emergency Management Agency.

[FR Doc. 2011-18351 Filed 7-20-11; 8:45 am]

BILLING CODE 9110-12-P